Proclamation 9439 of April 29, 2016

National Teacher Appreciation Day and National Teacher Appreciation Week, 2016

By the President of the United States of America

A Proclamation

Our country's story, written over more than two centuries, is one of challenges, chances, and progress. As our Nation has advanced on our journey toward ensuring rights and opportunities are extended fully and equally to all people, America's teachers—from the front lines of our civil rights movement to the front lines of our education system—have helped steer our country's course. They witness the incredible potential of our youth, and they know firsthand the impact of a caring leader at the front of the classroom.

As our national narrative has progressed, we have become a more equal society, cleared paths to opportunity, and affirmed the extraordinary potential of all our people—regardless of their race, their gender, their sexual orientation, their religion, or the zip code they were born into. But there is still work to be done. If our country's story is going to reflect the diversity we draw strength from, it needs to be written by people that represent the wide range of backgrounds and origins that comprise our national mosaic, and as the next generation rises and prepares to shape that narrative, our teachers will be with them every step of the way—imparting critical knowledge and opening their minds to the possibilities tomorrow holds. In working to ensure all our daughters and sons have the chance to add their voice and perspective to America's story, our teachers help shape a Nation that better reflects the values we were founded upon.

When I took office, I did so with a bold vision to foster innovation and drive change within our education system, and to expand educational opportunities and outcomes for all America's learners. Central to that goal is our work to build and strengthen the teaching profession so our teachers are enabled and equipped to inspire rising generations. I have worked hard throughout my Presidency to make sure my Administration does its part to support our educators and our education system, but the incredible progress our country has seen—from achieving record high graduation rates to holding more students to high standards that prepare them for success in college and future careers—is thanks to the dedicated teachers, families, and school leaders who work tirelessly on behalf of our young people.

Just as we know a student's circumstances do not dictate his or her potential, we know that having an effective teacher is the most important in-school factor for student success. That is why my Administration has been committed to better recruiting, preparing, retraining, and rewarding America's teachers. Following the worst economic crisis our country has seen since the Great Depression, my Administration supported significant investments in education through the Recovery Act to keep more than 300,000 educators in the classroom. We have invested more than $2.7 billion through competitive grants to better recruit, train, support, and reward talented teachers and educators, and we have worked to make sure teachers have a strong voice and a seat at the table in the policymaking process. At the urging of the Department of Education, all fifty States are advancing teacher equity plans to ensure that districts can support and retain educators in schools that need them most. In my State of the Union address in 2011, I announced a national goal to prepare 100,000 public school STEM teachers by 2021 to help ensure more of our young innovators can seize the opportunities of tomorrow—and I am proud that we are on track to meet that goal.

I recently signed the bipartisan Every Student Succeeds Act (ESSA), which ensures students are held to high standards that will better prepare them for college and careers. And because cookie-cutter solutions are not always effective considering the diversity of our communities and of the students in our classrooms, ESSA reflects my Administration's approach to education reform by empowering States and local decision makers, who know what their students need best, to shape their own progress with accountability. ESSA also aligns with the Testing Action Plan I announced last fall to help reduce the burden of standardized testing so educators can spend less time testing and more time teaching. This law will also allow more States and districts to support teachers and expand access to computer science, a critical skill our students need in the innovation economy.

Our future is written in schools across our country. It is likely that the first person who will go to Mars is in a classroom today. Our students are our future teachers, scientists, politicians, public servants, and parents—a generation that will steer the course we will take as a people and make possible things we have not even imagined yet. We look to the women and men standing in front of classrooms in all corners of our country—from cities to reservations to rural towns—to vest America's daughters and sons with the hard skills they will need to put their dreams within reach and to inspire them to dream even bigger. On National Teacher Appreciation Day and during National Teacher Appreciation Week, let us ensure our educators know how much we value their service in the classroom, how much we appreciate all they do for our students and families, and how thankful we are for their contributions to our national progress.

NOW, THEREFORE, I, BARACK OBAMA, President of the United States of America, by virtue of the authority vested in me by the Constitution and the laws of the United States, do hereby proclaim May 3, 2016, as National Teacher Appreciation Day and May 1 through May 7, 2016, as National Teacher Appreciation Week. I call upon students, parents, and all Americans to recognize the hard work and dedication of our Nation's teachers and to observe this day and this week by supporting teachers through appropriate activities, events, and programs.

IN WITNESS WHEREOF, I have hereunto set my hand this twenty-ninth day of April, in the year of our Lord two thousand sixteen, and of the Independence of the United States of America the two hundred and fortieth.

[FR Doc. 2016-10660

Filed 5-3-16; 11:15 am]

Billing code 3295-F6-P